DEPARTMENT OF TRANSPORTATION

Office of the Secretary

[Docket No. DOT-OST-2011-0178]

Privacy Act of 1974: System of Records

AGENCY: Department of Transportation (DOT), Office of the Secretary.

ACTION: Notice to establish a system of records and request for comments.

SUMMARY: In accordance with the Privacy Act of 1974, the Department of Transportation proposes to establish a new Department of Transportation system of records titled, “Department of Transportation/ALL-23 Information Sharing Environment Suspicious Activity Reporting Initiative System of Records.” This system of records will allow DOT to compile suspicious activity report data that meet the Information Sharing Environment Suspicious Activity Reporting Functional Standard and share these Suspicious Activity Reporting data with authorized participants in the Nationwide Suspicious Activity Reporting Initiative, including other DOT operating administrations, Federal departments and agencies, State, local and Tribal law enforcement agencies, and the private sector. Additionally, the Department of Transportation issued a Notice of Proposed Rulemaking to exempt this system from certain provisions of the Privacy Act elsewhere in the Federal Register. This newly established system will be included in the Department of Transportation's inventory of record systems.

DATES: Submit comments on or before October 24, 2011. This new system will be effective October 24, 2011.

ADDRESSES: You may submit comments, identified by docket number Docket No. DOT-OST-2011-0178, by one of the following methods:

• Federal e-Rulemaking Portal: http://www.regulations.gov. Follow the instructions for submitting comments.

• Fax: 202-493-2251.

• Mail: Department of Transportation Docket Management, Room W12-140, 1200 New Jersey Ave., SE., Washington, DC 20590.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions, please contact: Lawrence V. Hopkins, (202-366-6285), Associate Director for Intelligence, Department of Transportation, Washington, DC 20590. For privacy issues, please contact: Claire W. Barrett (202-366-8135), Departmental Chief Privacy Officer, Department of Transportation, Washington, DC 20590.

SUPPLEMENTARY INFORMATION:

I. Background

In accordance with the Privacy Act of 1974, 5 U.S.C. 552a, the Department of Transportation (DOT) proposes to establish a new DOT system of records titled, “DOT/ALL-23 Information Sharing Environment (ISE) Suspicious Activity Reporting (SAR) Initiative System of Records.”

This system of records will allow DOT operating administrations that produce, receive, and store suspicious activity reports (SARs) pursuant to their existing authorities, responsibilities, platforms, and programs to compile and share report data that also meet the ISE-SAR Functional Standard with authorized participants in the Nationwide SAR Initiative (NSI), including Federal departments and agencies, State, local and Tribal law enforcement agencies, and the private sector. The NSI is one of a number of government-wide efforts designed to implement guidelines first issued by the President on December 16, 2005, for establishing the ISE pursuant to section 1016 of the Intelligence Reform and Terrorism Prevention Act of 2004 (IRTPA), as amended. The NSI establishes a nationwide capability to gather, document, process, analyze and share information about suspicious activity, incidents, or behavior reasonably indicative of terrorist activities (hereafter collectively referred to as suspicious activity or activities) to enable rapid identification and mitigation of potential terrorist threats.

There is a long history of documenting of suspicious activity, particularly in the law enforcement community. These reports are sometimes referred to as suspicious activity reports, tips and leads, or other similar terms. Federal, State, local and Tribal agencies and the private sector currently collect and document suspicious activities in support of their responsibilities to investigate and prevent potential crimes, protect citizens, and apprehend and prosecute criminals. Since some of these documented activities may bear a nexus to terrorism, the Program Manager for the Information Sharing Environment (PM-ISE) developed a standardized process for identifying, documenting, and sharing terrorism-related SAR data (hereinafter referred to as an “ISE-SAR”), which meet the definition and criteria set forth in the ISE Functional Standard Suspicious Activity Reporting (Version 1.5, May 2009) to the maximum extent possible consistent with the protection of individual privacy, civil rights, and civil liberties. The Functional Standard defines an ISE-SAR as official documentation of observed behavior determined to have a potential nexus to terrorism (i.e., to be reasonably indicative of criminal activity associated with terrorism).

Several operating administrations within DOT regularly observe or otherwise encounter suspicious activities while executing their authorized missions and performing operational duties. Operating administrations document those observations or encounters in SARs. Across the Department, the operational setting or context for activities reported in SARs are as varied as the Department's regulatory responsibilities. Engagement with the NSI will alter neither those underlying mission functions nor upset the current methodologies employed by DOT operating administrations collecting information on suspicious activities and issuing SARs. Rather, the NSI will facilitate the more effective sharing and discovery—both internally and between DOT and external NSI participants—by incorporating a standardized technological and functional approach for recording and storing ISE-SARs throughout DOT. Once trained in the NSI program and the application of these technical and functional standards, DOT personnel will review operating administration SARs and submit the data only from those that meet the ISE-SAR Functional Standard into the NSI Shared Space.

In keeping with NSI standards, whenever suspicious activity is determined to have a potential nexus to terrorism, DOT personnel will extract data from the operating administration level SARs and input that data in a standardized format to the NSI Shared Space. All ISE-SAR data introduced into the NSI Shared Space are stored locally, but made available to other authorized users when a user's search criteria are met. For example, DOT ISE-SAR data remains under the control of the Department until an authorized user queries the NSI Shared Space with terms that match the data in the DOT ISE-SAR server. The results of each user's search or query cannot be downloaded or edited.

Additionally, DOT issued a Notice of Proposed Rulemaking to exempt this system of records from certain provisions of the Privacy Act in the Federal Register, 76 FR 55334 (Sept. 7, 2011). This newly established system will be included in the Department of Transportation's inventory of record systems.

II. Privacy Act

The Privacy Act embodies fair information principles in a statutory framework governing the means by which the United States Government collects, maintains, uses, and disseminates individuals' records. The Privacy Act applies to information that is maintained in a “system of records.” A system of records is a group of any records under the control of an agency for which information is retrieved by the name of an individual or by some identifying number, symbol, or other identifying particular assigned to the individual. In the Privacy Act, an individual is defined to encompass United States citizens and lawful permanent residents. As a matter of policy, DOT extends administrative Privacy Act protections to all individuals where systems of records maintain information on U.S. citizens, lawful permanent residents, and visitors. Individuals may request access to their own records that are maintained in a system of records in the possession or under the control of DOT by complying with DOT Privacy Act regulations, 49 CFR part 10. As published at 76 FR 55334 (Sept. 7, 2011), the Secretary of Transportation exempted this system from the notification, access, and amendment procedures of the Privacy Act because it is a law enforcement system. However, DOT will consider individual requests to determine whether or not information may be released.

The Privacy Act requires each agency to publish in the Federal Register a description denoting the type and character of each system of records that the agency maintains, and the routine uses that are contained in each system in order to make agency record keeping practices transparent, to notify individuals regarding the uses to which their records are put, and to assist individuals to more easily find such files within the agency. Below is the description of the DOT/ALL-23 system of records.

In accordance with 5 U.S.C. 552a(r), DOT has provided a report of this system of records to the Office of Management and Budget and to Congress.

SYSTEM OF RECORDS

DOT/ALL-23

SYSTEM NAME:

Information Sharing Environment (ISE) Suspicious Activity Reporting (SAR) Initiative System of Records.

SECURITY CLASSIFICATION:

Unclassified, sensitive, and law enforcement sensitive.

SYSTEM LOCATION:

Records are maintained at the Department of Transportation (DOT) Headquarters on the DOT Nationwide Suspicious Activity Report Initiative (NSI) Shared Space Server in Washington, DC.

CATEGORIES OF INDIVIDUALS COVERED BY THE SYSTEM:

Categories of individuals covered by this system include:

• DOT employees and contractors who have submitted ISE-SAR data to the NSI Shared Space.

• DOT employees and contractors who use the NSI Shared Space for conducting research and analysis with a potential terrorism nexus.

• Federal, State, local, Tribal, territorial and private sector officials whose agency or organization is part of the NSI and have submitted a ISE-SAR that meets the ISE-SAR Functional Standard and whose information DOT personnel have a need to know for the performance of their official duties.

• Federal, State, local, Tribal, territorial, and private sector officials whose agency or organization is an NSI participant and who use the NSI Shared Space for conducting research and analysis with a potential terrorism nexus.

• Individuals whose behavior is reasonably indicative of pre-operational planning related to terrorism or other criminal activity associated with terrorism.

• Witnesses who have observed individuals whose behavior reasonably is indicative of pre-operational planning related to terrorism or other criminal activity associated with terrorism.

• Individuals who have a material relationship to the activity or behavior reported in an ISE-SAR (e.g., the owner of a particular vehicle that was observed in a SAR, where it is unclear whether the person was actually driving the vehicle).

CATEGORIES OF RECORDS IN THE SYSTEM:

As described in the ISE-SAR Functional Standard Version 1.5 published in May 2009, the information listed below may be maintained in this system. The ISE-SAR Functional Standard identifies privacy fields, which are also noted below.

• Aircraft descriptions, including:

○ Aircraft engine quality.

○ Aircraft fuselage color.

○ Aircraft wing color.

○ Aircraft ID (privacy field).

○ Aircraft make code.

○ Aircraft model code.

○ Aircraft style code.

○ Aircraft tail number.

• Attachment:

○ Attachment type text.

○ Binary image.

○ Capture date.

○ Description text.

○ Format type text.

○ Attachment URI.

○ Attachment privacy field indicator.

• Contact information for the submitter of the ISE-SAR:

○ Person first name.

○ Person last name.

○ Person middle initial/name.

○ E-mail address.

○ Organization/Affiliation.

○ Full telephone number.

• Driver License:

○ Expiration date (privacy field).

○ Expiration year.

○ Issuing authority text.

○ Driver license number (privacy field).

○ Driver license endorsements, such as Hazardous Materials, Commercial Driver's License, Motorcycle.

• Follow-up Action:

○ Activity date.

○ Activity time.

○ Assigned by text.

○ Assigned to text.

○ Disposition text.

○ Status text.

• Location:

○ Location description (privacy field).

• Location Address:

○ Building description.

○ County name.

○ Country name.

○ Cross street description.

○ Floor identifier.

○ International Civil Aviation Organization (ICAO) airfield code for departure.

○ ICAO airfield code for planned destination.

○ ICAO for actual destination.

○ ICAO airfield for alternate.

○ Mile marker text.

○ Municipality name.

○ Postal code.

○ State name.

○ Street name.

○ Street number (privacy field).

○ Street post directional.

○ Street pre directional.

○ Street type.

○ Unit ID (privacy field).

• Location Coordinates:

○ Altitude.

○ Coordinate datum.

○ Latitude degree.

○ Latitude minute.

○ Latitude second.

○ Longitude degree.

○ Longitude minute.

○ Longitude second.

○ Conveyance track/intent.

• Observer:

○ Observer type text.

○ Person employer ID (privacy field).

• Owning organization:

○ Organization item.

○ Organization description.

○ Organization ID (privacy field).

○ Organization Local ID.

• Other Identifier:

○ Person identification number (PID) (privacy field).

○ PID effective date (privacy field).

○ PID effective year.

○ PID expiration date (privacy field).

○ PID expiration year.

○ PID issuing authority text.

○ PID type code.

• Passport:

○ Passport ID (privacy field).

○ Expiration date (privacy field).

○ Expiration year.

○ Issuing country code.

• Person:

○ AFIS FBI number (privacy field).

○ Age.

○ Age unit code.

○ Date of birth (privacy field).

○ Year of birth.

○ Ethnicity code.

○ Maximum age.

○ Minimum age.

○ State identifier (privacy field).

○ Tax identification number (privacy field).

• Person Name:

○ First name (privacy field).

○ Last name (privacy field).

○ Middle name (privacy field).

○ Full name (privacy field).

○ Moniker (privacy field).

○ Name suffix.

○ Name type.

• Physical descriptors:

○ Build description.

○ Eye color code.

○ Eye color text.

○ Hair color code.

○ Hair color text.

○ Person eyewear text.

○ Person facial hair text.

○ Person height.

○ Person height unit code.

○ Person maximum height.

○ Person minimum height.

○ Person maximum weight.

○ Person minimum weight.

○ Person sex code.

○ Person weight.

○ Person weight unit code.

○ Race code.

○ Skin tone code.

○ Clothing description text.

• Physical feature:

○ Feature description.

○ Feature type code.

○ Location description.

• Registration:

○ Registration authority code.

○ Registration number (privacy field).

○ Registration type.

○ Registration year.

• ISE-SAR Submission:

○ Additional details indicator.

○ Data entry date.

○ Dissemination code.

○ Fusion center contact first name.

○ Fusion center contact last name.

○ Fusion center contact e-mail address.

○ Fusion center contact telephone number.

○ Message type indicator.

○ Privacy purge data.

○ Privacy purge review date.

○ Submitting ISE-SAR Record ID.

○ ISE-SAR submission date.

○ ISE-SAR title.

○ ISE-SAR version.

○ Source agency case ID.

○ Source agency record reference name.

○ Source agency record status code.

○ Privacy information exists indicator.

• Sensitive Information Details:

○ Classification label.

○ Classification reason text.

○ Sensitivity level.

○ Tearlined indicator (information that indicates the report does not contain classified information).

• Source Organization:

○ Organization name.

○ Organization ORI.

○ System ID.

○ Fusion center submission date.

○ Source agency contact first name.

○ Source agency contact last name.

○ Source agency contact e-mail address.

○ Source agency contact phone number.

• Suspicious Activity Report:

○ Community description.

○ Community URI.

○ LEXS version.

○ Message date/time.

○ Sequence number.

○ Source reliability code.

○ Content validity code.

○ Nature of source-code.

○ Nature of source-text.

• Submitting organization:

○ Organization name.

○ Organization ID.

○ Organization ORI.

○ System ID.

• Suspicious Activity:

○ Activity end date.

○ Activity end time.

○ Activity start date.

○ Activity start time.

○ Observation description text.

○ Observation end date.

○ Observation end time.

○ Observation start date.

○ Observation start time.

○ Threat type code.

○ Threat type detail text.

○ Suspicious activity code.

○ Weather condition details.

• Target:

○ Critical infrastructure indicator.

○ Infrastructure sector code.

○ Infrastructure tier text.

○ Structure type code.

○ Target type text.

○ Structure type text.

○ Target description text.

• Vehicle:

○ Color code.

○ Description.

○ Make name.

○ Model name.

○ Style code.

○ Vehicle year.

○ Vehicle identification number (privacy field).

○ US DOT number (privacy field).

○ Vehicle description.

• Related ISE-SAR:

○ Fusion center ID.

○ Fusion center ISE-SAR Record ID.

○ Relations description text.

• Vessel:

○ Vessel official Coast Guard number identification (privacy field).

○ Vessel ID (privacy field).

○ Vessel ID issuing authority.

○ Vessel IMO number identification (privacy field).

○ Vessel MMSI identification.

○ Vessel make.

○ Vessel model.

○ Vessel model year.

○ Vessel name.

○ Vessel hailing port.

○ Vessel national flag.

○ Vessel overall length.

○ Vessel overall length measure.

○ Vessel serial number (privacy field).

○ Vessel type code.

○ Vessel propulsion text.

AUTHORITY FOR MAINTENANCE OF THE SYSTEM:

The Homeland Security Act of 2002, as amended; and the Intelligence Reform and Terrorism Prevention Act of 2004, as amended; Executive Order 13388.

PURPOSE(S):

The ISE-SAR Functional Standard is designed to support the sharing, specifically through the NSI, of information about suspicious activities that have a potential terrorism nexus throughout the ISE. The NSI participants include DOT; the Department of Justice; other Federal agencies carrying out counterterrorism mission function; State, local, and Tribal entities, including law enforcement agencies, represented at State, regional, major urban area fusion centers; and the private sector to the extent authorized by applicable law. In addition to providing specific indicators of possible terrorism-related crimes, ISE-SARs can be used to look for patterns and trends by analyzing information at a broader level than would typically be recognized within a single jurisdiction, State, or territory. Standardized and consistent sharing of suspicious activity information regarding potential terrorist threats and possible criminal activity associated with terrorism among State and major urban area fusion centers and Federal agencies is vital to assessing, deterring, preventing, or prosecuting those involved in criminal activities associated with terrorism.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DOT as a routine use pursuant to 5 U.S.C. 552a(b)(3) as follows:

A. To the Department of Justice (including United States Attorney Offices) or other Federal agency conducting litigation or in proceedings before any court, adjudicative or administrative body, when it is necessary to the litigation and one of the following is a party to the litigation or has an interest in such litigation:

1. DOT or any operating administration thereof;

2. Any employee of DOT in his/her official capacity;

3. Any employee of DOT in his/her individual capacity where DOJ or DOT has agreed to represent the employee; or

4. The United States or any agency thereof, is a party to the litigation or has an interest in such litigation, and DOT determines that the records are both relevant and necessary to the litigation and the use of such records is compatible with the purpose for which DOT collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DOT suspects or has confirmed that the security or confidentiality of information in the system of records has been compromised;

2. The Department has determined that as a result of the suspected or confirmed compromise there is a risk of harm to economic or property interests, identity theft or fraud, or harm to the security or integrity of this system or other systems or programs (whether maintained by DOT or another agency or entity) or harm to the individuals that rely upon the compromised information; and

3. The disclosure made to such agencies, entities, and persons is reasonably necessary to assist in connection with DOT efforts to respond to the suspected or confirmed compromise and prevent, minimize, or remedy such harm.

F. To contractors and their agents, grantees, experts, consultants, and others performing or working on a contract, service, grant, cooperative agreement, or other assignment for DOT, when necessary to accomplish an agency function related to this system of records. Individuals provided information under this routine use are subject to the same Privacy Act requirements and limitations on disclosure as are applicable to DOT officers and employees.

G. To an appropriate Federal, State, Tribal, local, international, or foreign law enforcement agency or other appropriate public or private sector organization who is a participant in the Nationwide SAR Initiative and authorized access through the NSI Shared Space for the purpose of supporting an authorized law enforcement, counterterrorism, national security, or homeland security function.

H. To Federal government counterterrorism agencies where DOT becomes aware of an indication of a threat or potential threat to national or international security, and where such use is to assist in anti-terrorism efforts.

I. To an organization or individual in either the public or private sector, either foreign or domestic, where there is a reason to believe that the recipient is or could become the target of a particular terrorist activity or conspiracy, to the extent the information is relevant to the protection of life, property or other vital interests of a data subject and disclosure is proper and consistent with the official duties of the person making the disclosure.

J. See DOT Prefatory Statement of General Routine Uses published in the Federal Register on December 29, 2010 (75 FR 82132).

DISCLOSURE TO CONSUMER REPORTING AGENCIES:

None.

POLICIES AND PRACTICES FOR STORING, RETRIEVING, ACCESSING, RETAINING, AND DISPOSING OF RECORDS IN THE SYSTEM:

STORAGE:

Records in this system are stored electronically. The records are stored on magnetic disc, tape, digital media, and CD-ROM.

RETRIEVABILITY:

Much of the data within this system does not pertain to an individual; rather, the information pertains to locations, geographic areas, facilities, and other things or objects not related to individuals. However, personal information may be captured. Personal data may be retrieved by name, Social Security number, any privacy fields noted under Categories of Records, and other identifiers listed under the Categories of Records section.

SAFEGUARDS:

Records in this system are safeguarded in accordance with applicable rules and policies, including all applicable DOT automated systems security and access policies. Strict controls have been imposed to minimize the risk of compromising the information that is being stored. Access to the computer system containing the records in this system is limited to those individuals who have a need to know the information for the performance of their official duties and who have appropriate clearances or permissions.

RETENTION AND DISPOSAL:

DOT is in the process of developing a retention schedule for DOT ISE-SAR data. This retention schedule will be based upon the underlying retention schedules of the information identified in existing operating administrations' retention schedules. DOT operating administrations maintain the authority to withdraw and/or edit any and all ISE-SAR data that they have entered into the NSI Shared Space in accordance with their respective policies. The NSI Shared Space does not have any internal retention mandates independent of the retention policies of the DOT operating administrations that enter their information into the NSI Shared Space.

SYSTEM MANAGER AND ADDRESS:

Lawrence V. Hopkins, (202) 366-6285), Associate Director for Intelligence, Department of Transportation, Washington, DC 20590.

NOTIFICATION PROCEDURE:

The Secretary of Transportation has exempted this system from the notification, access, and amendment procedures of the Privacy Act because it is a law enforcement system. However, DOT will consider individual requests to determine whether or not information may be released. Thus, individuals seeking notification of and access to any record contained in this system of records, or seeking to contest its content, may submit a request in writing to the appropriate FOIA Requester Service Center, for which contact information can be found at http://www.dot.gov/foia under “Contact Us.”

When seeking records about yourself from this system of records or any other Departmental system of records, your request must conform with the Privacy Act regulations set forth in 49 CFR part 10. You must verify your identity by providing either a notarized statement or a statement signed under penalty of perjury stating that you are the person that you say you are. You may fulfill this requirement by: (1) Having your signature on your request letter witnessed by a notary; or (2) including the following statement immediately above the signature on your request letter: “I declare under penalty of perjury that the foregoing is true and correct. Executed on [date].” If you request information about yourself and do not follow one of these procedures, your request cannot be processed.

RECORD ACCESS PROCEDURES:

See “Notification procedure” above.

CONTESTING RECORD PROCEDURES:

See “Notification procedure” above.

RECORD SOURCE CATEGORIES:

Records are obtained from ISE-SARs submitted by Federal, State, local, Tribal, and territorial agencies and private sector organizations who are NSI participants. The respective mission sets of DOT operating administrations are varied and entail coverage across multiple modes. DOT operating administrations use a standardized technical approach across the Department to incorporate SAR data into the NSI Shared Space. DOT personnel, trained in the ISE-SAR program, will review operating administration SARs and submit only those SAR data that meet the ISE-SAR Functional Standard to the NSI Shared Space.

EXEMPTIONS CLAIMED FOR THE SYSTEM:

The Secretary of Transportation has exempted this system from the following subsections of the Privacy Act, 5 U.S.C. 552, to the extent that this system contains investigatory material compiled for law enforcement purposes, in accordance with 5 U.S.C. 552a(k)(2): a(c)(3) (Accounting of Certain Disclosures); (d) (Access to Records); (e)(4)(G), (H), and (I) (Agency Requirements); and (f) (Agency Requirements).

Dated: September 16, 2011.
Claire W. Barrett,
Departmental Chief Privacy Officer, Department of Transportation.

[FR Doc. 2011-24279 Filed 9-21-11; 8:45 am]

BILLING CODE 4910-9X-P